POSTAL REGULATORY COMMISSION

39 CFR Part 3025

[Docket No. RM2020-3; Order No. 5439]

Procedures Related to Commission Views

AGENCY: Postal Regulatory Commission.

ACTION: Final rule.

SUMMARY: The Commission revises to its rules related to the Commission's process for developing views submitted to the Secretary of State on certain international mail matters.

DATES: Effective date: April 21, 2020.

ADDRESSES: For additional information, Order No. 5439 can be accessed electronically through the Commission's website at https://www.prc.gov.

FOR FURTHER INFORMATION CONTACT: David A. Trissell, General Counsel, at 202-789-6820.

SUPPLEMENTARY INFORMATION:

Table of Contents

I. Relevant Statutory Requirements

II. Background

III. Basis and Purpose of Final Rules

IV. Changes to Final Rules

I. Relevant Statutory Requirements

Section 407(c)(1) of title 39 of the United States Code requires that the Secretary of State, before concluding a treaty, convention, or amendment establishing a market dominant rate or classification, request the Commission's views on the consistency of such rate or classification with the modern rate-setting criteria of 39 U.S.C. 3622. Commission views entail the review and analysis of numerous proposals from the Universal Postal Union (UPU) or its member countries, which are typically posted on the UPU website pursuant to a series of deadlines that begin about 6 months before a Congress convenes.

II. Background

In Docket No. RM2015-14, the Commission adopted rules formalizing its procedures related to Commission views submitted pursuant to 39 U.S.C. 407(c)(1).¹ The adopted rules reflected the Commission's commitment to both transparency and improved public accessibility by establishing dockets that informed the public about the availably of relevant proposals, Commission views, and other related documents, and by allowing all documents to be incorporated into one comprehensive record.

¹ See generally, Docket No. RM2015-14, Order Adopting Final Rules on Procedures Related to Commission Views, December 20, 2015 (Order No. 2960), 81 FR 869 (January 8, 2016).

III. Basis and Purpose of Final Rules

After years of experience in participating in both traditional UPU Congresses as well as two extraordinary Congresses, the Commission adopts clarifying changes to the rules in order to better reflect the Commission's procedures related to the posting of relevant proposals and Commission views.²

² Notice of Proposed Rulemaking to Amend Procedures Related to Commission Views, December 17, 2019 (Order No. 5353), 84 FR 70466 (December 23, 2019).

IV. Changes to Final Rules

Due to Commission action in another proceeding, the Commission notes several non-substantive changes to the rules as proposed in Order No. 5353. These changes do not affect the text of the rules themselves and largely relate to the numbering of the rules. In Order No. 5353, the Commission proposed rule revisions to 39 CFR part 3017 on December 17, 2019. See section I, supra; see also Order No. 5353. On January 16, 2020, the Commission issued a final rulemaking in a separate proceeding that, among other things, renumbered several parts in title 39.³ In Order No. 5407, 39 CFR part 3017 was redesignated as 39 CFR part 3025. Id. at 24. In addition, the Commission redesignated §§ 3017.1 through 3017.5 as §§ 3025.101 through 3025.105 of the chapter and revised the part's heading to “Procedures Related to Commission Views Submitted to the Secretary of State.” ⁴ The revisions set forth in Order No. 5407 go into effect on April 20, 2020. Order No. 5407 at 21-22. In order to avoid any confusion that may be associated with these overlapping changes, the final rules adopted in this Order will go into effect on April 21, 2020, after the renumbering of parts in title 39 is complete. As such, the rule revisions herein reflect the numerical and heading changes adopted as part of Order No. 5407.

³ Docket No. RM2019-13, Order Reorganizing Commission Regulations and Amending Rules of Practice, January 16, 2020 (Order No. 5407), 85 FR 9614 (February 19, 2020).

⁴ Id. at 26; 85 FR 9656 (February 19, 2020).

List of Subjects for 39 CFR Part 3025

Administrative practice and procedure, Postal Service, Treaties.

For the reasons stated in the preamble, the Commission amends chapter III of title 39 of the Code of Federal Regulations by revising part 3025 to read as follows:

PART 3025—PROCEDURES RELATED TO COMMISSION VIEWS SUBMITTED TO THE SECRETARY OF STATE

Sec.
3025.101 Definitions in this part.
3025.102 Purpose.
3025.103 Establishment and scope of docket.
3025.104 Comment deadline(s).
3025.105 Issuance of Commission views.

Authority: 39 U.S.C. 407; 503.

§ 3025.101 Definitions in this part.

(a) Commission views refers to the opinion the Commission provides to the Secretary of State pursuant to 39 U.S.C. 407(c)(1) on the consistency of a relevant proposal with modern rate regulation.

(b) Modern rate regulation refers to the standards and criteria the Commission has established pursuant to 39 U.S.C. 3622.

(c) Relevant proposal means a proposed change to a treaty, convention, or amendment that establishes a market dominant rate or classification.

§ 3025.102 Purpose.

The rules in this part are intended to facilitate public participation in, and promote the transparency of, the development of Commission views.

§ 3025.103 Establishment and scope of docket.

(a) On or about 150 days before a Universal Postal Union Congress convenes or such advance time as the Commission determines for any other 39 U.S.C. 407(c)(1) matter, the Commission shall establish a docket in order to solicit public comments as part of the development of Commission views.

(b) The Commission shall post relevant proposals in the applicable docket established pursuant to paragraph (a) of this section and may also include other materials related to the development of Commission views, such as other documents or related actions.

(c) Public comments should focus on the specific relevant proposals posted by the Commission and the general principles that should guide the development of Commission views as well as any other materials posted in the applicable docket pursuant to paragraph (b) of this section.

(d) The Commission shall arrange for publication in the Federal Register of the notice establishing each docket authorized under this part.

§ 3025.104 Comment deadline(s).

(a) The Commission shall establish a deadline for comments upon establishment of the docket that is consistent with timely submission of Commission views to the Secretary of State. The Commission may establish other deadlines for comments as appropriate.

(b) The Commission may suspend or forego solicitation of comments if it determines that such solicitation is not consistent with timely submission of Commission views to the Secretary of State.

§ 3025.105 Issuance of Commission views.

(a) The Commission will review timely filed comments responding to a Commission solicitation pursuant to § 3025.103(a) prior to submitting its views to the Secretary of State.

(b) After Commission views are developed, the Commission shall post Commission views in the applicable docket established pursuant to § 3025.103(a) and submit Commission views to the Secretary of State pursuant to 39 U.S.C. 407(c)(1).

By the Commission.
Erica A. Barker,
Secretary.

[FR Doc. 2020-04038 Filed 3-5-20; 8:45 am]

BILLING CODE 7710-FW-P